DEPARTMENT OF COMMERCE

National Oceanic and Atmospheric Administration

RIN 0648-XZ51

Marine Mammals; File No. 15543

AGENCY: National Marine Fisheries Service (NMFS), National Oceanic and Atmospheric Administration (NOAA), Commerce.

ACTION: Notice; receipt of application.

SUMMARY: Notice is hereby given that Randall S. Wells, PhD (Principal Investigator), Sarasota Dolphin Research Program, c/o Mote Marine Laboratory, 1600 Ken Thompson Parkway, Sarasota, FL 34236, has applied in due form for a permit to conduct research on bottlenose dolphins (Tursiops truncatus).

DATES: Written, telefaxed, or e-mail comments must be received on or before November 18, 2010.

ADDRESSES: The application and related documents are available for review by selecting “Records Open for Public Comment” from the Features box on the Applications and Permits for Protected Species (APPS) home page, https://apps.nmfs.noaa.gov, and then selecting File No. 15543 from the list of available applications.

These documents are also available upon written request or by appointment in the following office(s):

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Laura Morse or Carrie Hubard, (301) 713-2289.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to take bottlenose dolphins for scientific research. Annually, up to 15,000 individuals would be approached for photo-identification and behavioral studies and 100 dolphins would be remotely biopsy sampled. Fifty dolphins a year would be captured, examined, sampled, tagged, marked, and released for health assessment studies. Research would occur in the shallow coastal waters of west Florida out to 50 nm offshore, with a focus along the central west coast, from Clearwater southward to Fort Myers, including Sarasota Bay, Tampa Bay, Lemon Bay, Gasparilla Sound, Charlotte Harbor, and Pine Island Sound. Females with calves less than one year old would not be captured. The research would provide crucial background information on individual identification, sex, age, reproductive status, and genetic relationships to support long-term observational studies of population structure, population dynamics, life history, social structure, genetic structure including paternity patterns, and human interactions. The sampling and tagging would support studies of contaminant loads and associated medical effects, immune system function, effects of harmful algae, nutritional status, feeding behavior, ranging patterns, studies of whistle development and function, measures of hearing ability, and behavior associated with sound production. Research would also include assessments of oil spill impacts at individual and population levels.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 13, 2010.
P. Michael Payne,
Chief, Permits, Conservation and Education Division, Office of Protected Resources, National Marine Fisheries Service.

[FR Doc. 2010-26288 Filed 10-18-10; 8:45 am]

BILLING CODE 3510-22-P